DEPARTMENT OF ENERGY

Federal Energy Regulatory Commission

[Docket No. AD11-6-000]

Priorities for Addressing Risks to the Reliability of the Bulk-Power System; Reliability Technical Conference Panel

February 2, 2011.

As announced in the Notice of Technical Conference issued on December 16, 2010, the Commission will hold a technical conference on Tuesday, February 8, 2011, to discuss policy issues related to reliability of the Bulk-Power System, including priorities for addressing risks to reliability. Attached hereto is a modified agenda that includes a list of the panelists that have been asked to address the topics previously identified in the Agenda issued in this docket on January 7, 2011.

Kimberly D. Bose,
Secretary.

Reliability Technical Conference

February 8, 2011

10 a.m.-5 p.m.

Agenda

10 a.m. Commissioners' Opening Remarks.

10:20 a.m. Remarks; The Honorable Trent Franks, U.S. House of Representatives.

10:35 a.m. Introductions; Commissioner Cheryl LaFleur, Chair.

10:40 a.m. Panel 1: Discussion of Current Issues and Identifying Priorities.

Presentations: Panelists will be invited to express their general views on how current reliability issues and standards development initiatives can be ranked and prioritized to ensure that the key reliability issues are addressed first. Panelists will be asked to address some or all of the following:

a. What are the most significant risks to the reliability of the Bulk-Power System? Do the current Reliability Standards effectively address these risks? If not, what processes should be used by industry, the North American Electric Reliability Corp. (NERC) and the Commission to address these risks?

b. What are the most critical reliability issues and/or standards development initiatives that need to be addressed in 2011? What are the biggest challenges to addressing these issues and/or completing these initiatives in an effective and timely manner? What next steps are appropriate to timely and effectively address the priorities discussed?

c. How do NERC and reliability standards development teams incorporate in new priorities and/or Commission directives regarding reliability standards into their work plans?

d. How do NERC's non-standards processes such as the Industry Alerts, Recommendations, Event Analysis, Essential Actions, Lessons Learned and Compliance Application Notices interact with the reliability standards? To what extent do these processes aid in identifying important reliability matters that are not addressed under the existing Reliability Standards?

e. Going forward, what can the Commission do to assist NERC?

11:45 a.m. Lunch

12:30 p.m. Continuation of Panel 1

Discussion with Commissioners: Open dialogue and questions and answers between Panel 1 and Commissioners.

Panelists (Panel 1):

• John Q. Anderson, Chairman of the Board, North American Electric Reliability Corporation (NERC).

• Gerry W. Cauley, President and Chief Executive Officer, North American Electric.

• Reliability Corporation (NERC).

• Kevin Burke, Chairman, President and CEO, Consolidated Edison Inc.

• Roberta S. Brown.

• Mike Smith, President and CEO, Georgia Transmission Corp.

• Hon. Betty Ann Kane, Chairman, DC Public Service Commission.

• John Anderson, President, Electricity Consumers Resource Council (ELCON).

• Lonnie N. Carter, President and Chief Executive Officer, Santee Cooper.

1:30-3 p.m. Panel 2: Emerging Issues

Panelists will address more specifically their views regarding the emerging issues of the Bulk Power System. Panelists will be asked to address some or all of the following:

a. How do you expect the Bulk Power System to change in the next decade? What are the most critical new and emerging challenges facing the power grid?

b. Do the CIP standards assure cyber security, including protecting against sophisticated and fast-moving threats? What role do you expect Smart Grid to play in the Bulk Power System and will the Critical Infrastructure Protection (CIP) standards adequately assure grid reliability under Smart Grid applications? If not, how should NERC address these issues?

c. Will Smart Grid applications have non-cyber reliability implications that need to be addressed?

d. What steps are currently being taken to address the electromagnetic pulse (EMP) issue? Which Reliability Standards cover EMP and do they adequately address the issue?

e. Are there any other emerging reliability issues that NERC, industry and the Commission should consider addressing?

f. How can emerging issues that are identified be effectively and timely resolved while addressing NERC's other priorities?

Panelists (Panel 2):

• John Q. Anderson, Chairman of the Board, North American Electric Reliability Corporation (NERC).

• Gerry W. Cauley, President and Chief Executive Officer, North American Electric.

• Reliability Corporation (NERC).

• Ronald L. Litzinger, President, Southern California Edison Company.

• Stephen J. Wright, Administrator and Chief Executive Officer, Bonneville Power Administration.

• Stephen G. Whitely, President and Chief Executive Officer, New York Independent System Operator.

• Randy Vickers, Director, United States Computer Emergency Readiness Team (US-CERT).

• Avi Schnurr, President, Electric Infrastructure Security Council.

• Ed Tymofichuk, Vice-President, Transmission, Manitoba Hydro.

3:15-5 p.m. Panel 3: Next Steps and Wrap-up

Panelists will address more specifically their views regarding what steps and processes are necessary to effectively address the issues critical to the reliability of the Bulk Power System:

a. Does NERC have the necessary resources, tools, and authority to address these issues? Are NERC and Commission processes and procedures adequate to address the reliability priorities and issues discussed above? What can the Commission do to assist NERC?

b. What part of the discussion today was most helpful? What further discussion or guidance is needed?

c. How often should reliability summits like this occur? What other forums should we use to communicate about these and other critical reliability issues?

Panelists (Panel 3):

• Gerry W. Cauley, President and Chief Executive Officer, North American Electric Reliability Corporation (NERC).

• Hon. Betty Ann Kane, Chairman, DC Public Service Commission.

• John Anderson, President, Electricity Consumers Resource Council (ELCON).

• John Q. Anderson, Chairman of the Board, North American Electric Reliability Corporation (NERC).

• Kevin Burke, Chairman, President and CEO, Consolidated Edison Inc.

• Lonnie N. Carter, President and Chief Executive Officer, Santee Cooper.

• Mike Smith, President and CEO, Georgia Transmission Corp.

• Randy Vickers, Director, United States Computer Emergency Readiness Team (US-CERT).

• Roberta S. Brown.

• Stephen G. Whitely, President and Chief Executive Officer, New York Independent System Operator.

• Stephen J. Wright, Administrator and Chief Executive Officer, Bonneville Power Administration.

[FR Doc. 2011-2806 Filed 2-8-11; 8:45 am]

BILLING CODE 6717-01-P